DEPARTMENT OF THE TREASURY

Bureau of Alcohol, Tobacco and Firearms

27 CFR Part 4

[Notice No. 945; Re: Notice No. 941]

RIN 1512-AC65

Proposal to Recognize Synonyms for Petite Sirah and Zinfandel Grape Varieties (2001R-251P)

AGENCY: Bureau of Alcohol, Tobacco and Firearms, Department of the Treasury.

ACTION: Proposed rule; extension of comment period.

SUMMARY: This notice extends the comment period for Notice No. 941, a notice of proposed rulemaking published in the Federal Register on April 10, 2002. The proposed rule would amend the list of prime grape names to recognize “Durif” as a synonym for the Petite Sirah grape and “Primitivo” as a synonym for the Zinfandel grape. ATF has received a request to extend the comment period so that all interested parties will have sufficient time to evaluate the proposed rule.

DATES: Written comments must be received by October 8, 2002.

ADDRESSES: Send written comments regarding the proposed rule to: Chief, Regulations Division, Bureau of Alcohol, Tobacco and Firearms, P.O. Box 50221, Washington, DC 20091-0221 (Attn: Notice No. 941). See the “Public Participation” section of this notice for alternative means of commenting.

Copies of the proposed regulation, background materials, and any written comments received will be available for public inspection during normal business hours at the ATF Reading Room, Office of Public Affairs and Disclosure, Room 6480, 650 Massachusetts Avenue, NW., Washington, DC 20226.

FOR FURTHER INFORMATION CONTACT: Jennifer Berry, Bureau of Alcohol, Tobacco and Firearms, Regulations Division, 111 W. Huron Street, Room 219, Buffalo, NY 14202-2301; telephone (716) 434-8039.

SUPPLEMENTARY INFORMATION:

Background

On April 10, 2002, ATF published a notice of proposed rulemaking (Notice No. 941) in the Federal Register proposing two amendments to its list of prime grape variety names used to designate American wines. This list is contained in title 27 of the Code of Federal Regulations, section 4.91. The first amendment would recognize the name “Durif” as a synonym for the Petite Sirah grape, while the second would recognize the name “Primitivo” as a synonym for the Zinfandel grape. This proposal is based on DNA research conducted into the identity of these grapes. The comment period for Notice No. 941 currently closes on June 10, 2002.

However, ATF has received a request from the Wine Institute to extend the comment period for an additional 120 days. The Wine Institute, which represents 605 California wineries, states that the proposal regarding the Zinfandel grape could have significant impact on the California wine industry. For this reason, it requested additional time to adequately evaluate the scientific evidence and the various issues raised by the proposed rule.

After considering this request, ATF finds that an extension of the comment period is warranted. We are therefore extending the comment period for an additional 120 days as requested. The comment period for Notice No. 941 will now close October 8, 2002.

Public Participation

ATF requests comments from all interested parties on the proposals contained in Notice No. 941. We specifically request comments on the clarity of the proposed rule and how it may be made easier to understand.

What Is a Comment?

In order for a submission to be considered a “comment,” it must clearly indicate a position for or against the proposed rule or some part of it, or express neutrality about the proposed rule. Comments that use reasoning, logic, and, if applicable, good science to explain the commenter's position are most persuasive in the formation of a final rule.

To be eligible for consideration, comments must:

• Contain your name and mailing address;

• Reference Notice No. 941;

• Be legible and written in language generally acceptable for public disclosure;

• Contain a legible, written signature if submitted by mail or fax; and

• Contain your e-mail address if submitted by e-mail.

To assure public access to our office equipment, comments submitted by fax must be no more than three pages in length when printed on 8½″ by 11″ paper. Comments submitted by mail or e-mail may be any length.

How May I Submit Comments?

By Mail: You may send written comments by mail to the address shown above in the ADDRESSES section of this notice.

By Fax: You may submit comments by facsimile transmission to (716) 434-8041. We will treat faxed transmissions as originals.

By E-Mail: You may submit comments by e-mail by sending the comments to nprm@atfhq.atf.treas.gov. We will treat e-mailed transmissions as originals.

By On-line Form: You may also submit comments using the comment form provided with the online copy of the proposed rule on the ATF Internet web site at http://www.atf.treas.gov/alcohol/rules/index.htm. We will treat comments submitted via the web site as originals.

How Does ATF Use the Comments?

We will carefully consider all comments we receive on or before the closing date. We will also carefully consider comments we receive after that date if it is practical to do so, but we cannot assure consideration of late comments. We will not acknowledge receipt of comments or reply to individual comments. We will summarize and discuss pertinent comments in the preamble to any subsequent notices or the final rule published as a result of the comments.

Can I Review Comments Received?

You may view copies of the comments on Notice No. 941 by appointment at the ATF Reference Library, Room 6480, 650 Massachusetts Avenue, NW., Washington, DC 20226, telephone (202) 927-7890. You may request copies of the comments by writing to the ATF Reference Librarian at the address shown above.

For the convenience of the public, ATF will post comments received in response to Notice 941 on the ATF web site. All comments posted on our web site will show the name of the commenter, but will not show street addresses, telephone numbers, or e-mail addresses. We may also omit voluminous attachments or material that we do not consider suitable for posting. In all cases, the full comment will be available in the library or through FOIA requests, as noted above. To access online copies of the comments on this rulemaking, visit http://www.atf.treas.gov/, and select “Regulations,” then “Notices of proposed rulemaking (Alcohol)” and Notice No. 941. Click on the “View Comments” button.

Will ATF Keep My Comments Confidential?

ATF cannot recognize any material in comments as confidential. All comments and materials may be disclosed to the public in the ATF Reading Room or in response to a FOIA request. We may also post the comment on our web site. (See “Can I Review Comments Received?”) Finally, we may disclose the name of any person who submits a comment and quote from the comment in the preamble to a final rule on this subject. If you consider your material to be confidential or inappropriate for disclosure to the public, you should not include it in the comments.

Drafting Information

The principal author of this document is Jennifer Berry, Regulations Division, Bureau of Alcohol, Tobacco and Firearms.

List of Subjects in 27 CFR Part 4

Advertising, Customs duties and inspection, Imports, Labeling, Packaging and containers, Reporting and recordkeeping requirements, Trade practices, Wine.

Authority and Issuance

This notice is issued under the authority contained in 27 U.S.C. 205.

Signed: May 31, 2002.
David L. Benton,
Deputy Director.

[FR Doc. 02-14132 Filed 6-5-02; 8:45 am]

BILLING CODE 4810-13-P